DEPARTMENT OF HOMELAND SECURITY

Federal Emergency Management Agency

[Docket ID FEMA-2022-0002; Internal Agency Docket No. FEMA-B-2231]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Morgan | Town of Priceville (22-04-1537X). | The Honorable Sam Heflin, Mayor, Town of Priceville, 242 Marco Drive, Priceville, AL 35603. | Planning Department, 242 Marco Drive, Priceville, AL 35603. | https://msc.fema.gov/portal/advanceSearch. | Jul. 5, 2022 | 010448
Morgan | Unincorporated areas of Morgan County (22-04-1537X). | The Honorable Ray Long, Chairman, Morgan County Commission, 302 Lee Street Northeast, Decatur, AL 35601. | Morgan County Engineer's Office, 580 Shull Road, Hartselle, AL 35640. | https://msc.fema.gov/portal/advanceSearch. | Jul. 5, 2022 | 010175
Florida:
Bay | City of Lynn Haven (20-04-4506P). | Ms. Vickie Gainer, Manager, City of Lynn Haven, 825 Ohio Avenue, Lynn Haven, FL 32444. | Building Department, 817 Ohio Avenue, Lynn Haven, FL 32444. | https://msc.fema.gov/portal/advanceSearch. | Jun. 27, 2022 | 120009
Bay | City of Panama City (20-04-4506P). | The Honorable Greg Brudnicki, Mayor, City of Panama City, 501 Harrison Avenue, Panama City, FL 32401. | Public Works Department, Engineering Division, 501 Harrison Avenue, Panama City, FL 32401. | https://msc.fema.gov/portal/advanceSearch. | Jun. 27, 2022 | 120012
Bay | Unincorporated areas of Bay County (20-04-4506P). | The Honorable Robert Carroll, Chairman, Bay County Board of Commissioners, 840 West 11th Street, Panama City, FL 32401. | Bay County Planning and Zoning Department, 840 West 11th Street, Panama City, FL 32401. | https://msc.fema.gov/portal/advanceSearch. | Jun. 27, 2022 | 120004
Lake | City of Leesburg (21-04-3589P). | Mr. Al Minner, Manager, City of Leesburg, P.O. Box 490630, Leesburg, FL 34749. | Planning and Zoning Department, 204 North 5th Street, Leesburg, FL 34748. | https://msc.fema.gov/portal/advanceSearch. | Jun. 27, 2022 | 120136
Lake | City of Leesburg (22-04-1150P). | Mr. Al Minner, Manager, City of Leesburg, P.O. Box 490630, Leesburg, FL 34749. | Planning and Zoning Department, 204 North 5th Street, Leesburg, FL 34748. | https://msc.fema.gov/portal/advanceSearch. | Jul. 13, 2022 | 120136
Lake | Unincorporated areas of Lake County (21-04-3589P). | Ms. Jennifer Barker, Lake County Interim Manager, P.O. Box 7800, Tavares, FL 32778. | Lake County Public Works Department, 323 North Sinclair Avenue, Tavares, FL 32778. | https://msc.fema.gov/portal/advanceSearch. | Jun. 27, 2022 | 120421
Lake | Unincorporated areas of Lake County (22-04-1150P). | Ms. Jennifer Barker, Lake County Interim Manager, P.O. Box 7800, Tavares, FL 32778. | Lake County Public Works Department, 323 North Sinclair Avenue, Tavares, FL 32778. | https://msc.fema.gov/portal/advanceSearch. | Jul. 13, 2022 | 120421
Manatee | Unincorporated areas of Manatee County (21-04-0488P). | The Honorable Kevin Van Ostenbridge, Chairman, Manatee County Board of Commissioners, 1112 Manatee Avenue West, Bradenton, FL 34205. | Manatee County Building and Development Services Department, 1112 Manatee Avenue West, Bradenton, FL 34205. | https://msc.fema.gov/portal/advanceSearch. | Jul. 12, 2022 | 120153
Marion | City of Ocala (21-04-4034P). | Ms. Sandra R. Wilson, Manager, City of Ocala, 110 Southeast Watula Avenue, Ocala, FL 34471. | Stormwater Engineering Department, 1805 Northeast 30th Avenue, Building 300, Ocala, FL 34470. | https://msc.fema.gov/portal/advanceSearch. | Jul. 7, 2022 | 120330
Monroe | Unincorporated areas of Monroe County (22-04-1070P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Jul. 11, 2022 | 125129
Orange | City of Orlando (21-04-3916P). | The Honorable Buddy Dyer, Mayor, City of Orlando, 400 South Orange Avenue, Orlando, FL 32801. | Engineering Services Division, 400 South Orange Avenue, Orlando, FL 32801. | https://msc.fema.gov/portal/advanceSearch. | Jul. 19, 2022 | 120186
Walton | Unincorporated areas of Walton County (20-04-4412P). | The Honorable Michael Barker, Chairman, Walton County Board of Commissioners, 552 Walton Road, DeFuniak Springs, FL 32433. | Walton County Administration Building, 76 North 6th Street, DeFuniak Springs, FL 32433. | https://msc.fema.gov/portal/advanceSearch. | Jul. 12, 2022 | 120317
Maine: York | Town of Kennebunk (21-01-1064P). | Mr. Michael W. Pardue, Manager, Town of Kennebunk, 1 Summer Street, Kennebunk, ME 04043. | Town Hall, 1 Summer Street, Kennebunk, ME 04043. | https://msc.fema.gov/portal/advanceSearch. | Jul. 11, 2022 | 230151
New Mexico:
San Juan | City of Aztec (21-06-1857P). | The Honorable Michael A. Padilla, Sr., Mayor, City of Aztec, 201 West Chaco Street, Aztec, NM 87410. | City Hall, 201 West Chaco Street, Aztec, NM 87410. | https://msc.fema.gov/portal/advanceSearch. | Jul. 5, 2022 | 350065
San Juan | Unincorporated areas of San Juan County (21-06-1857P). | Mr. Mike Stark, San Juan County Manager, 100 South Oliver Drive, Aztec, NM 87410. | San Juan County Fire Operations Building, 209 South Oliver Drive, Aztec, NM 87410. | https://msc.fema.gov/portal/advanceSearch. | Jul. 5, 2022 | 350064
North Carolina: Mecklenburg | Town of Mint Hill (21-04-4211P) | The Honorable Brad Simmons, Mayor, Town of Mint Hill, 4430 Mint Hill Village Lane, Mint Hill, NC 28227. | Town Hall, 4430 Mint Hill Village Lane, Mint Hill, NC 28227. | https://msc.fema.gov/portal/advanceSearch. | Jul. 13, 2022 | 370539
North Dakota: Burleigh | City of Bismarck (21-08-1104P). | The Honorable Steven Bakken, Mayor, City of Bismarck, P.O. Box 5503, Bismarck, ND 58506. | Community Development Department, 221 North 5th Street, Bismarck, ND 58501. | https://msc.fema.gov/portal/advanceSearch. | Jul. 13, 2022 | 380149
Pennsylvania:
Montgomery | Municipality of Norristown (21-03-1308P). | Mr. Crandall O. Jones, Administrator, Municipality of Norristown, 235 East Airy Street, Norristown, PA 19401. | Municipality Hall, 235 East Airy Street, Norristown, PA 19401. | https://msc.fema.gov/portal/advanceSearch. | Jun. 27, 2022 | 425386
Montgomery | Township of Upper Merion (21-03-1308P). | Mr. Anthony T. Hamaday, Manager, Township of Upper Merion, 175 West Valley Forge Road, King of Prussia, PA 19406. | Township Hall, 175 West Valley Forge Road, King of Prussia, PA 19406. | https://msc.fema.gov/portal/advanceSearch. | Jun. 27, 2022 | 420957
Montgomery | Township of West Norriton (21-03-1308P). | Mr. Jason Bobst, Manager, Township of West Norriton, 1630 West Marshall Street, Jeffersonville, PA 19403. | Township Hall, 1630 West Marshall Street, Jeffersonville, PA 19403. | https://msc.fema.gov/portal/advanceSearch. | Jun. 27, 2022 | 420711
Texas:
Bexar | City of San Antonio (21-06-2681P). | The Honorable Ron Nirenberg, Mayor, City of San Antonio, P.O. Box 839966, San Antonio, TX 78283. | Transportation and Capitol Improvements Department, Storm Water Division, 114 West Commerce Street, 7th Floor, San Antonio, TX 78205. | https://msc.fema.gov/portal/advanceSearch. | Jun. 27, 2022 | 480045
Dallas | City of Dallas (21-06-1960P). | The Honorable Eric Johnson, Mayor, City of Dallas, 1500 Marilla Street, Room 5EN, Dallas, TX 75201. | Oak Cliff Municipal Center, 320 East Jefferson Boulevard, Room 312, Dallas, TX 75203. | https://msc.fema.gov/portal/advanceSearch. | Jul. 5, 2022 | 480171
McLennan | City of Hewitt (21-06-1238P). | The Honorable Steve Fortenberry, Mayor, City of Hewitt, 200 Patriot Court, Hewitt, TX 76643. | Community Services Department, 103 North Hewitt Drive, Hewitt, TX 76643. | https://msc.fema.gov/portal/advanceSearch. | Jul. 12, 2022 | 480458
McLennan | City of Waco (21-06-1238P). | The Honorable Dillon Meek, Mayor, City of Waco, 300 Austin Avenue, Waco, TX 76702. | City Hall, 300 Austin Avenue, Waco, TX 76702. | https://msc.fema.gov/portal/advanceSearch. | Jul. 12, 2022 | 480461
Montgomery | City of Conroe (21-06-1436P). | The Honorable Jody Czajkoski, Mayor, City of Conroe, 300 West Davis Street, Conroe, TX 77301. | Engineering Department, 700 Metcalf Street, Conroe, TX 77301. | https://msc.fema.gov/portal/advanceSearch. | Jul. 1, 2022 | 480484
Montgomery | Unincorporated areas of Montgomery County (21-06-1567P). | The Honorable Mark J. Keough, Montgomery County Judge, 501 North Thompson Street, Suite 401, Conroe, TX 77301. | Montgomery County Engineering Department, 501 North Thompson Street, Suite 103, Conroe, TX 77301. | https://msc.fema.gov/portal/advanceSearch. | Jun. 27, 2022 | 480483
Randall | City of Amarillo (22-06-0467P). | The Honorable Ginger Nelson, Mayor, City of Amarillo, P.O. Box 1971, Amarillo, TX 79105. | City Hall, 509 Southeast 7th Avenue, Amarillo, TX 79105. | https://msc.fema.gov/portal/advanceSearch. | Jul. 19, 2022 | 480529
Randall | Unincorporated areas of Randall County (22-06-0467P). | The Honorable Christy Dyer, Randall County Judge, 501 16th Street, Suite 303, Canyon, TX 79015. | Randall County Road and Bridge Department, 301 West Highway 60, Canyon, TX 79015. | https://msc.fema.gov/portal/advanceSearch. | Jul. 19, 2022 | 480532
Tarrant | City of Fort Worth (21-06-1533P). | The Honorable Mattie Parker, Mayor, City of Fort Worth, 200 Texas Street, Fort Worth, TX 76102. | Department of Transportation and Public Works, 200 Texas Street, Fort Worth, TX 76102. | https://msc.fema.gov/portal/advanceSearch. | Jul. 11, 2022 | 480596
Williamson | Unincorporated areas of Williamson County (21-06-2883P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Jul. 7, 2022 | 481079
Virginia: Albemarle | Unincorporated areas of Albemarle County (21-03-1458P). | Mr. Jeff Richardson, Albemarle County Executive, 401 McIntire Road, Suite 228, Charlottesville, VA 22902. | Albemarle County Community Development Department, 401 McIntire Road, Charlottesville, VA 22902. | https://msc.fema.gov/portal/advanceSearch. | Jul. 13, 2022 | 510006

[FR Doc. 2022-08146 Filed 4-14-22; 8:45 am]

BILLING CODE 9110-12-P